DEPARTMENT OF TRANSPORTATION

Federal Aviation Administration

14 CFR Part 39

[FAA-2005-23400; Directorate Identifier 2005-NM-217-AD; Amendment 39-14429; AD 2005-19-16 R1]

RIN 2120-AA64

Airworthiness Directives; Airbus Model A320-111, -211, -212, -214, -231, -232, and -233 Airplanes

AGENCY: Federal Aviation Administration, DOT.

ACTION: Final rule; rescission.

SUMMARY: This amendment rescinds Airworthiness Directive (AD) 2005-19-16, which is applicable to certain Airbus Model A320-111, -211, -212, -214, -231, -232, and -233 airplanes. That AD requires installing a bonding strip between each of the two water scavenge jet pumps of the center fuel tank and the rear spar in section 21. That AD resulted from fuel system reviews conducted by the manufacturer. The requirements of that AD were intended to prevent an ignition source for fuel vapor in the wing, which could result in fire or explosion in the center wing fuel tank. Since the issuance of that AD, the FAA has determined that the procedures specified in the service bulletin and French AD referenced in that AD would result in duplicate actions.

Effective Date: December 22, 2005.

ADDRESSES: You can examine the contents of this AD docket on the Internet at http://dms.dot.gov, or at the Docket Management Facility, U.S. Department of Transportation, 400 Seventh Street, SW., room PL-401, on the plaza level of the Nassif Building, Washington, DC.

FOR FURTHER INFORMATION CONTACT: Dan Rodina, Aerospace Engineer, International Branch, ANM-116, FAA, Transport Airplane Directorate, 1601 Lind Avenue, SW., Renton, Washington 98055-4056; telephone (425) 227-2125; fax (425) 227-1149.

SUPPLEMENTARY INFORMATION: On September 9, 2005, the Federal Aviation Administration (FAA) issued Airworthiness Directive (AD) 2005-19-16, amendment 39-14281 (70 FR 55233, September 21, 2005), applicable to certain Model A320-111, -211, -212, -214, -231, -232, and -233 airplanes. That AD requires installing a bonding strip between each of the two water scavenge jet pumps of the center fuel tank and the rear spar in section 21. That action resulted from fuel system reviews conducted by the manufacturer. The actions required by that AD are intended to prevent an ignition source for fuel vapor in the center wing fuel tank. That condition, if not corrected, could result in fire or explosion in the center wing fuel tank.

Actions Since Issuance of Previous AD

Since the issuance of that AD, Airbus notified the Direction Générale de l'Aviation Civile (DGAC), which is the airworthiness authority for France, and informed us that it had issued Service Bulletin A320-28-1104, dated December 2, 2003; Revision 01 dated December 8, 2004; and Revision 02 dated February 21, 2005. That service bulletin has been mandated by the European Aviation Safety Authority (EASA) AD F-2005-028 and FAA AD 2005-19-14. That service bulletin specifies inspections and the restoring of electrical bonding integrity in the center tank, including the bonding addressed by Airbus Service Bulletin A320-28-1067, Revision 02, dated January 27, 1997. Airbus states that Service Bulletin A320-28-1067, Revision 02, the service bulletin cited in AD 2005-19-16, is no longer required due to the issuance of Service Bulletin A320-28-1104, original version; Revision 01; and Revision 02. Accordingly, the DGAC canceled French AD F-2005-056 by issuing AD F-2005-056 R1 on September 28, 2005.

FAA's Determination

Since the issuance of AD 2005-19-16, we have determined that it is necessary to rescind that AD in order to prevent operators from performing unnecessary actions.

Since this action rescinds a requirement to perform an unnecessary action, it has no adverse economic impact and imposes no additional burden on any person. Therefore, notice and public procedures hereon are unnecessary and the rescission may be made effective upon publication in the Federal Register.

The Rescission

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding an AD which removes amendment 39-14281, to read as follows:

2005-19-16 R1 Airbus: Amendment 39-14429. FAA-2005-23400; Directorate Identifier 2005-NM-217-AD.

Effective Date

(a) This AD becomes effective December 22, 2005.

Affected ADs

(b) This action rescinds AD 2005-19-16.

Applicability

(c) This action applies to Airbus Model A320-111, -211, -212, -214, -231, -232, and -233 airplanes, certificated in any category; except those airplanes on which Airbus Modification 25513 has been accomplished in production.

Issued in Renton, Washington, on December 8, 2005.
Michael Zielinski,
Acting Manager, Transport Airplane Directorate, Aircraft Certification Service.

[FR Doc. 05-24343 Filed 12-21-05; 8:45 am]

BILLING CODE 4910-13-P